DEPARTMENT OF COMMERCE

International Trade Administration

[A-570-868]

Folding Metal Tables and Chairs From the People's Republic of China: Final Results and Partial Rescission of First Antidumping Duty Administrative Review

AGENCY: Import Administration, International Trade Administration, Department of Commerce.

SUMMARY: On July 6, 2004, the Department of Commerce (“the Department”) published the preliminary results of the first antidumping duty administrative review of the antidumping duty order on folding metal tables and chairs from the People's Republic of China (“PRC”). This administrative review covers two exporters (see “Background” section below for further discussion). The period of review is December 3, 2001, through May 30, 2003. We gave interested parties an opportunity to comment on our preliminary results.

Based on the additional publicly available information used in these final results and the comments received from the interested parties, we have made changes in the margin calculation for Dongguan Shichang Metals Factory Co., Ltd. (“Shichang”) (i.e., the respondent which fully cooperated in this review). The final weighted-average dumping margins for the reviewed firms are listed below in the section entitled “Final Results of Review.”

EFFECTIVE DATE: December 20, 2004.

FOR FURTHER INFORMATION CONTACT: Amber Musser at (202) 482-1777 or Brian C. Smith at (202) 482-1766, AD/CVD Operations, Office 9, Import Administration, International Trade Administration, U.S. Department of Commerce, Washington, DC 20230.

SUPPLEMENTARY INFORMATION:

Background

While the Department initiated an administrative review of four companies, based on a request by the petitioner¹ and certain exporters, this administrative review now covers only two exporters: Shichang and Wok & Pan Industry, Inc. (“Wok and Pan”) (see “Partial Rescission of Administrative Review” section of this notice for further discussion).

¹ The petitioner is Meco Corporation.

On July 6, 2004, the Department published in the Federal Register the preliminary results of the first administrative review of the antidumping duty order on folding metal tables and chairs from the PRC (see Folding Metal Tables and Chairs From the People's Republic of China: Preliminary Results of First Antidumping Duty Administrative Review, 69 FR 40602 (July 6, 2004) (“Preliminary Results”)).

On July 26, 2004, the petitioner submitted publicly available information to value the factors of production in this review.

On August 17, 2004, the Department published in the Federal Register a notice of postponement of the final results until no later than December 13, 2004 (69 FR 51061).

Shichang submitted its case brief on September 10, 2004. The petitioner and Wok and Pan did not submit case or rebuttal briefs.

Neither the petitioner nor the respondents in this review requested a hearing.

On October 20, 2004, the Department received a request from U.S. Customs and Border Protection (“CBP”) to add Harmonized Tariff Schedule of the United States (“HTSUS”) subheadings 9403708010, 9403708020, 9403708030 to the AD/CVD module. We have updated the module and amended the scope accordingly (see October 20, 2004, memorandum to the file titled Request for AD/CVD Module Update with the Addition of HTSUS Numbers for Folding Metal Tables and Chairs from the People's Republic of China (A-577-868); and the “Scope of the Order” section of this notice).

The Department has conducted this administrative review in accordance with section 751 of the Tariff Act of 1930, as amended (“the Act”).

Scope of the Order

The products covered by this order consist of assembled and unassembled folding tables and folding chairs made primarily or exclusively from steel or other metal, as described below:

1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of folding metal tables are the following:

a. Lawn furniture;

b. Trays commonly referred to as “TV trays”;

c. Side tables;

d. Child-sized tables;

e. Portable counter sets consisting of rectangular tables 36'' high and matching stools; and

f. Banquet tables. A banquet table is a rectangular table with a plastic or laminated wood table top approximately 28'' to 36'' wide by 48'' to 96'' long and with a set of folding legs at each end of the table. One set of legs is composed of two individual legs that are affixed together by one or more cross-braces using welds or fastening hardware. In contrast, folding metal tables have legs that mechanically fold independently of one another, and not as a set.

2) Assembled and unassembled folding chairs made primarily or exclusively from steel or other metal (“folding metal chairs”). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

a. Folding metal chairs with a wooden back or seat, or both;

b. Lawn furniture;

c. Stools;

d. Chairs with arms; and

e. Child-sized chairs.

The subject merchandise is currently classifiable under subheadings 9401710010, 9401710030, 9401790045, 9401790050, 9403200010, 9403200030, 9403708010, 9403708020, and 9403708030 of the HTSUS. Although the HTSUS subheadings are provided for convenience and customs purposes, the Department's written description of the merchandise is dispositive.

Period of Review

The period of review (“POR”) is December 3, 2001, through May 31, 2003.

Partial Rescission of Administrative Review

We rescinded this administrative review with respect to Feili Furniture Development Co., Ltd. and Feili (Fujian) Co., Ltd. (“collectively Feili”) and New-Tec Integration Co., Ltd. (“New-Tec”) pursuant to 19 CFR 351.213(d)(1), because the petitioner withdrew its request for review and these companies did not properly file their request for review in accordance with section 751(a)(1) of the Act. See Folding Metal Tables and Chairs from the People's Republic of China: Notice of Partial Rescission of First Antidumping Duty Administrative Review, 68 FR 66397 (November 26, 2003) (“Rescission Notice”).

Facts Available - Wok and Pan

In the Preliminary Results, 69 FR at 40602, the Department determined that the use of adverse facts available (“AFA”) was warranted in accordance with sections 776(a) and 776(b) of the Act, with respect to Wok and Pan. Section 776(a)(2) of the Act states that the Department may use “facts available” if an interested party (A) withholds information that has been requested by the Department, (B) fails to provide information in the time and manner requested, (C) significantly impedes a proceeding under this title or (D) provides such information but the information cannot be verified. Furthermore, pursuant to section 776(b) of the Act, the Department may apply an adverse inference if it finds a respondent has not acted to the best of its ability in the conduct of the administrative review. Because Wok and Pan improperly filed its response to the Department's antidumping duty questionnaire and did not comply with our requests for information regarding separate rates, we determined that Wok and Pan did not cooperate to the best of its ability (see also 69 FR at 40602). Since the preliminary results, nothing has changed to reverse our preliminary decision regarding Wok and Pan and Wok and Pan has filed no comments on the record addressing the Department's preliminary results. Therefore, pursuant to sections 776(a) and 776(b) of the Act, we have continued to make an adverse inference with respect to Wok and Pan by assigning to its exports of the subject merchandise a rate of 70.71 percent, which is the PRC-wide rate.

Corroboration of Facts Available

Section 776(c) of the Act requires that the Department corroborate, to the extent practicable, a figure based on secondary information which it applies as AFA. To be considered corroborated, the information must be found to be both reliable and relevant, and thus determined to have probative value. For the reasons explained above, we are applying as AFA the highest rate from any segment of this proceeding, 70.71 percent, which is the current PRC-wide rate originally calculated in the less-than-fair-value (“LTFV”) investigation. (See Notice of Final Determination of Sales at Less Than Fair Value: Folding Metal Tables and Chairs from the People's Republic of China, 67 FR 20090, 20091 (April 24, 2002).) For the reasons stated in the Preliminary Results, 69 FR 40602, the Department finds this rate to be both reliable and relevant, and, therefore, to have probative value in accordance with the Statement of Administrative Action, H.R. Doc. 103-316 (“SAA”). See SAA at 870. No party has challenged the Department's preliminary corroboration analysis for purposes of the final results. Therefore, we have continued to assign to exports of the subject merchandise by Wok and Pan the rate of 70.71 percent.

Analysis of Comments Received

All issues raised in the case briefs are addressed in the Issues and Decision Memorandum for the Final Results of the Antidumping Duty Administrative Review on Folding Metal Tables and Chairs from the People's Republic of China December 3, 2001, through May 31, 2003, from Barbara E. Tillman, Acting Deputy Assistant Secretary for Import Administration, to James Jochum, Assistant Secretary for Import Administration, dated December 13, 1994 (“Decision Memo”), which is hereby adopted by this notice. A list of the issues raised, all of which are in the Decision Memo, is attached to this notice as an Appendix. Parties can find a complete discussion of all issues raised in the briefs and the corresponding recommendations in this public memorandum which is on file in the Central Records Unit, room B-099 of the main Department building. In addition, a complete version of the Decision Memo can be accessed directly on the Web at http://ia.ita.doc.gov/frn. The paper copy and electronic version of the Decision Memo are identical in content.

Changes Since the Preliminary Results

Based on the decision made by the Department in the Notice of Amended Final Determination of Sales at Less Than Fair Value: Floor-Standing, Metal-Top Ironing Tables and Certain Parts Thereof from the People's Republic of China, 69 FR 47868 (August 6, 2004) (“Ironing Tables”), in which the Department used the same data as in this administrative review to derive surrogate financial ratios, we have made changes to the surrogate financial ratios as discussed below. First, in the preliminary results of this review, we inadvertently failed to remove the line item “Purchase of Traded Goods” from the “Value of Raw Materials Consumed” when deriving surrogate financial ratios based on the data contained in the financial report for the Indian producer Godrej & Boyce Manufacturing Co., Ltd. (“Godrej”). Because it is the Department's practice to apply the surrogate financial ratios to the build-up of the respondent's cost of manufacture (“COM”), the denominator of these ratios must include only the manufacturing costs incurred by Godrej (i.e., the Indian producer of comparable merchandise whose financial data the Department used to derive surrogate financial ratios in both Ironing Tables and in this administrative review) so that we are applying the financial ratios on an apples-to-apples basis. See section 773(c) of the Act; 19 CFR 351.408(c)(4). As the “Purchase of Traded Goods” does not reflect Godrej's manufacturing costs, we are excluding this value from the calculation of Godrej's COM and have recalculated the surrogate financial ratios accordingly. For a further discussion of these changes, see also the December 13, 2004, memorandum to the file, titled Factors Valuation for the Final Results.

In addition, we inadvertently erred in calculating the surrogate financial ratios by failing to properly value selling, general, and administrative (“SG&A”) expenses. Specifically, we improperly valued SG&A expenses by inaccurately transcribing the data contained in the line items for “Bad Debts/Advances Written Off” and “Provision for Service Contract Expenses” as reflected in Godrej's financial report. For a further discussion of these changes, see also the December 13, 2004, memorandum to the file, titled Factors Valuation for the Final Results.

Final Results of Review

We determine that the following weighted-average margin percentages exist for the period December 3, 2001, through May 31, 2003:

Exporter | Final Margin (percent)
Dongguan Shichang Metals Factory Co., Ltd. | 4.27
Wok & Pan Industry, Inc. | 70.71
PRC-Wide Rate | 70.71

Assessment Rates

The Department shall determine, and CBP shall assess, antidumping duties on all appropriate entries. The Department will issue appropriate appraisement instructions for the companies subject to these reviews directly to CBP within 15 days of publication of the final results of these reviews. For assessment purposes, we do not have the actual entered value for the respondent for which we calculated a margin because it is not the importer of record for the subject merchandise. Therefore, we have calculated individual importer- or customer-specific assessment rates by aggregating the dumping margins calculated for all of the U.S. sales examined and dividing that amount by the total quantity of the sales examined. To determine whether the duty assessment rates are de minimis (i.e., less than 0.50 percent), in accordance with the requirement set forth in 19 CFR 351.106(c)(2), we have calculated importer- or customer-specific ad valorem ratios based on export prices. We will instruct CBP to assess antidumping duties on all appropriate entries covered by this review if any importer or customer-specific assessment rate calculated in the final results of this review is above de minimis. For entries of the subject merchandise during the POR from companies not subject to this review, we will instruct CBP to liquidate them at the cash deposit in effect at the time of entry.

Cash Deposit Requirements

The following deposit rates shall be required for merchandise subject to the order entered or withdrawn from warehouse, for consumption on or after the publication date of this final results, as provided by section 751(a)(1) and 751(a)(2)(B) of the Act: (1) The cash deposit rates for Dongguan Shichang Metals Factory Co., Ltd. and Wok & Pan will be the rates indicated above; (2) the cash deposit rate for PRC exporters for whom the Department has rescinded the review or for whom a review was not requested (e.g., Feili and New-Tec) will continue to be the rate assigned in an earlier segment of the proceeding or the PRC-wide rate of 70.71 percent, whichever applicable; (3) the cash deposit rate for the PRC NME entity (including Wok & Pan) will continue to be the PRC-wide rate of 70.71 percent; and (4) the cash deposit rate for non-PRC exporters of subject merchandise from the PRC will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305(a). Timely written notification of the return/destruction of APO materials or conversion to judicial protective order is hereby requested. Failure to comply with the regulations and terms of an APO is a violation which is subject to sanction.

We are issuing and publishing this determination and notice in accordance with sections 751(a)(1), 751(a)(2)(B), and 777(i) of the Act and 19 CFR 351.213 and 351.214.

Dated: December 13, 2004.
James J. Jochum,
Assistant Secretary for Import Administration.

Appendix--Issues in Decision Memo

Comments

Issue 1: Use of the Actual Market Economy Prices Paid to Hong Kong Suppliers To Value Shichang's Cold Rolled Steel Input

Issue 2: Correcting Certain Errors in the Draft Instructions of Cash Deposit Rates And Liquidation to the U.S. Customs and Border Protection

[FR Doc. E4-3743 Filed 12-17-04; 8:45 am]

BILLING CODE: 3510-DS-S